NUCLEAR REGULATORY COMMISSION

[Docket No. NRC-2015-0273]

Information Collection: Nondiscrimination on the Basis of Sex in Education Programs or Activities Receiving Federal Financial Assistance

AGENCY: Nuclear Regulatory Commission.

ACTION: Notice of submission to the Office of Management and Budget; request for comment.

SUMMARY: The U.S. Nuclear Regulatory Commission (NRC) has recently submitted a request for renewal of an existing collection of information to the Office of Management and Budget (OMB) for review. The agency regulation authorizes the NRC to collect information about applicants and recipients who are either applying for, or receiving Federal Financial Assistance (FFA) from the Commission.

DATES: Submit comments by July 14, 2016.

ADDRESSES: Submit comments directly to the OMB reviewer at: Vlad Dorjets, Desk Officer, Office of Information and Regulatory Affairs (3150-0209), NEOB-10202, Office of Management and Budget, Washington, DC 20503; telephone: 202-395-7315, email: oira_submission@omb.eop.gov.

FOR FURTHER INFORMATION CONTACT: David Cullison, NRC Clearance Officer, U.S. Nuclear Regulatory Commission, Washington, DC 20555-0001; telephone: 301-415-2084; email: INFOCOLLECTS.Resource@nrc.gov.

SUPPLEMENTARY INFORMATION:

I. Obtaining Information and Submitting Comments

A. Obtaining Information

Please refer to Docket ID NRC-2015-0273 when contacting the NRC about the availability of information for this action. You may obtain publicly-available information related to this action by any of the following methods:

• Federal Rulemaking Web site: Go to http://www.regulations.gov and search for Docket ID NRC-2015-0273. A copy of the collection of information and related instructions may be obtained without charge by accessing Docket ID NRC-2015-0273 on this Web site.

• NRC's Agencywide Documents Access and Management System (ADAMS):You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. A copy of the collection of information and related instructions may be obtained without charge by accessing ADAMS Accession ADAMS ML16145A294. The supporting statement and NRC Form 781, “SBCR Compliance Review,” and NRC Form 782 “Complaint Form,” are available in ADAMS under Accession numbers ML16145A343, ML16145A302, and ML16145A305.

• NRC's PDR: You may examine and purchase copies of public documents at the NRC's PDR, Room O1-F21, One White Flint North, 11555 Rockville Pike, Rockville, Maryland 20852.

• NRC's Clearance Officer: A copy of the collection of information and related instructions may be obtained without charge by contacting the NRC's Clearance Officer, David Cullison, Office of the Chief Information Officer, U.S. Nuclear Regulatory Commission, Washington, DC 20555-0001; telephone: 301-415-2084; email: INFOCOLLECTS.Resource@NRC.GOV.

B. Submitting Comments

The NRC cautions you not to include identifying or contact information in comment submissions that you do not want to be publicly disclosed in your comment submission. All comment submissions are posted at http://www.regulations.gov and entered into ADAMS. Comment submissions are not routinely edited to remove identifying or contact information.

If you are requesting or aggregating comments from other persons for submission to the OMB, then you should inform those persons not to include identifying or contact information that they do not want to be publicly disclosed in their comment submission. Your request should state that comment submissions are not routinely edited to remove such information before making the comment submissions available to the public or entering the comment into ADAMS.

II. Background

NRC's Office of Small Business and Civil Rights (SBCR) collects information from applicants in accordance with Federal mandates requiring compliance reviews be conducted prior to an agency issuing a grant award. The information is collected and analyzed to determine, if there are any “concerns” regarding discrimination violations. Following the issuance of a grant award, information is collected from recipients as part of the legislatively mandated post-award compliance process, to ensure compliance with Equal Opportunity (EO) and fair practice laws during the period of FFA. During the post-award period, recipients are required to submit an annual EO performance report no later than December 31st of each calendar year. Additionally, the regulations require SBCR to investigate Title 9 complaints alleging discrimination filed against recipients receiving FFA from the Commission. This document is the second of two Federal Register notices (second notice) required by the Paperwork Reduction Act (“PRA”). In December 2015, the NRC published a related Federal Register notice. The Commission did not receive any public comments. This “second notice” requests public comment, and OMB's review and approval of, the proposed collection of information discussed in this notice.

Under the provisions of the Paperwork Reduction Act of 1995 (44 U.S.C. Chapter 35), the NRC recently submitted a request for renewal of an existing collection of information to OMB for review, entitled, “10 CFR part 5, Nondiscrimination on the Basis of Sex in Education Programs or Activities Receiving Federal Financial Assistance.” The NRC hereby informs potential respondents that an agency may not conduct or sponsor, and that a person is not required to respond to, a collection of information unless it displays a currently valid OMB control number.

The NRC published a Federal Register notice with a 60-day comment period on this information collection on December 18, 2015, (80 FR 79102).

1. The title of the information collection: “Nondiscrimination on the Basis of Sex in Education Programs or Activities Receiving Federal Financial Assistance.”

2. OMB approval number: 3150-0209.

3. Type of submission: Extension.

4. The form number if applicable: NRC 781, “SBCR Compliance Review” and NRC 782, “Complaint Form”.

5. How often the collection is required or requested: 10 CFR part 5 follows provisions covered in 10 CFR part 4, section 4.331 Compliance Reviews, which indicates that the NRC may conduct compliance reviews and Pre-Award reviews of recipients or use other similar procedures that will permit it to investigate and correct violations of the act and these regulations. The NRC may conduct these reviews even in the absence of a complaint against a recipient. The reviews may be as comprehensive as necessary to determine whether a violation of these regulations has occurred.

6. Who will be required or asked to respond: Recipients of FFA provided by the NRC (including educational institutions, other nonprofit organizations receiving FFA, and Agreement States).

7. The estimated number of annual responses: 800.

8. The estimated number of annual respondents: 200.

9. An estimate of the total number of hours needed annually to comply with the information collection requirement or request: 3,600.

10. Abstract: The proposed collection of information is necessary to ensure nondiscrimination and compliance with Federal civil rights regulations in NRC's FFA programs and activities.

Interested parties are invited to send comments regarding any aspect of this information collection, including: (1) The necessity and utility of the information collection for the proper performance of the functions of the NRC; (2) the accuracy of the estimated burden; (3) ways to enhance the quality, utility, and clarity of the collected information; and (4) ways to minimize the collection burden without reducing the quality of the collected information. Comments submitted in response to this notice will be summarized and/or included in the request for OMB approval of this information collection.

Dated at Rockville, Maryland, this 10th day of June 2016.
For the Nuclear Regulatory Commission.
Kristen Benney,
Acting NRC Clearance Officer, Office of the Chief Information Officer.

[FR Doc. 2016-14040 Filed 6-13-16; 8:45 am]

BILLING CODE 7590-01-P